DEPARTMENT OF ENERGY

Federal Energy Regulatory Commission

Combined Notice of Filings

Take notice that the Commission has received the following Natural Gas Pipeline Rate and Refund Report filings:

Filings Instituting Proceedings

Docket Numbers: RP19-419-002.

Applicants: Tuscarora Gas Transmission Company.

Description: Pre-Arranged/Pre-Agreed (Petition for Approval of Settlement) Filing, et al. of Tuscarora Gas Transmission Company under RP19-419.

Filed Date: 3/15/19.

Accession Number: 20190315-5273.

Comments Due: 5 p.m. ET 3/27/19.

Docket Numbers: RP19-784-001.

Applicants: Arlington Storage Company, LLC.

Description: Tariff Amendment: Arlington Storage Company, LLC.—Filing of Replacement eTariff Section to be effective 4/1/2019.

Filed Date: 3/18/19.

Accession Number: 20190318-5081.

Comments Due: 5 p.m. ET 4/1/19.

Docket Numbers: RP19-843-000.

Applicants: Southern LNG Company, L.L.C.

Description: Compliance filing Ship Loading Service Compliance Filing to be effective 12/31/9998.

Filed Date: 3/18/19.

Accession Number: 20190318-5073.

Comments Due: 5 p.m. ET 4/1/19.

Docket Numbers: RP19-844-000.

Applicants: Texas Gas Transmission, LLC.

Description: Request for Waiver of Tariff Provision of Texas Gas Transmission, LLC. under RP19-844.

Filed Date: 3/19/19.

Accession Number: 20190319-5054.

Comments Due: 5 p.m. ET 3/25/19.

Docket Numbers: RP19-845-000.

Applicants: Midcontinent Express Pipeline LLC.

Description: Compliance filing 2019 Annual Penalty Revenue Crediting Report.

Filed Date: 3/19/19.

Accession Number: 20190319-5123.

Comments Due: 5 p.m. ET 4/1/19.

Docket Numbers: RP19-846-000.

Applicants: Black Hills Shoshone Pipeline, LLC.

Description: Compliance filing NAESB Compliance Filing—Order No. 587-Y to be effective 4/1/2019.

Filed Date: 3/19/19.

Accession Number: 20190319-5133.

Comments Due: 5 p.m. ET 4/1/19.

Docket Numbers: RP19-847-000.

Applicants: PGPipeline LLC.

Description: Compliance filing PGPipeline LLC. NAESB Compliance Filing to be effective 8/1/2019.

Filed Date: 3/19/19.

Accession Number: 20190319-5134.

Comments Due: 5 p.m. ET 4/1/19.

Docket Numbers: RP19-848-000.

Applicants: El Paso Natural Gas Company, L.L.C.

Description: § 4(d) Rate Filing: Non Conforming Negotiated Rate Agreements Update (WPX Mar 19) to be effective 3/19/2019.

Filed Date: 3/19/19.

Accession Number: 20190319-5147.

Comments Due: 5 p.m. ET 4/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2019.
Nathaniel J. Davis, Sr.,
Deputy Secretary.

[FR Doc. 2019-05714 Filed 3-25-19.; 8:45 am]

BILLING CODE 6717-01-P